DEPARTMENT OF THE INTERIOR

Bureau of Land Management

[WO-220-1020-PB-24 1A]

Reinstatement of Approved Information Collection, OMB Approval Number 1004-0068

AGENCY: Bureau of Land Management, Interior.

ACTION: Notice and request for comments.

SUMMARY: In accordance with the Paperwork Reduction Act of 1995, the Bureau of Land Management (BLM) requests the Office of Management and Budget (OMB) to reinstate an existing approval to collect information that authorizes and documents the cooperative construction of range improvement projects on public lands. BLM will use form 4120-67 (Cooperative Range Improvement Agreement) under the authority of Sections 2, 4, and 9 of the Taylor Grazing Act, Section 5 of the Public Rangelands Improvement Act and implementing regulations found at 43 CFR 4110.2-3(a)(2), 4120, and 4140.1(b)(8).

DATES: You must submit your comments to BLM at the address below on or before October 1, 2001. BLM will not necessarily consider any comments after the above date.

ADDRESSES: You may mail comments to: Regulatory Affairs Group (630), Bureau of Land Management, Mailstop 401LS, 1849 C Street, NW., Washington, DC 20240.

You may send comments via Internet to: WOComment@blm.gov. Please include “ATTN: 1004-0068” and your name and return address in your Internet message.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Ken Visser on (202) 452-7743 (Commercial or FTS). Persons who use a telecommunication device for the deaf (TDD) may call the Federal Information Relay Service (FIRS) on 1-800-877-8330, 24 hours a day, seven days a week, to contact Mr. Visser.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

BLM administers the livestock grazing program consistent with land-use plans, multiple-use objectives, sustained yield, environmental values, economic considerations, and other factors. To do so, BLM may enter into a cooperative range improvement agreement with a person, organization, or other government entity to install, use, maintain and/or modify permanent range improvements or rangeland developments to achieve management or resource condition objectives.

BLM will use Form 4120-6 to document cooperative project development agreements between BLM and grazing permittees/lessees for projects intended to enhance the livestock management infrastructure on public lands. Also, BLM will use Form 4120-6 to document agreements between BLM and others such as State wildlife agencies, conservation organizations or entities wishing to contribute resources to cooperatively develop and/or maintain a project on public lands intended to further other land-use plan goals. Form 4120-6 requests the information to identify the cooperator(s), the range improvement project, and the expenditures by the cooperator(s) and the BLM to construct the proposed project.

Based upon BLM experience and recent tabulations of activity, we process approximately 588 Cooperative Range Improvement Agreements each year. The public reporting information collection burden takes 20 minutes. Depending on the size and complexity of the range project, some responses may take up to 60 minutes to complete. The estimated number of responses per year is 588. The estimated total annual burden is 196 hours.

BLM will summarize all responses to this notice and include them in the request for OMB approval. All comments will become a matter of public record.

Dated: June 20, 2001.
Michael H. Schwartz,
BLM Information Collection Clearance Officer.

[FR Doc. 01-19037 Filed 7-30-01; 8:45 am]

BILLING CODE 4310-84-M